DEPARTMENT OF LABOR

Employment and Training Administration

[TA-W-58,298]

Messier Services, Inc.; a Subsidiary of Safran Group; Sterling, VA; Notice of Revised Determination on Reconsideration

On November 30, 2005, the Department of Labor issued a Notice of Affirmative Determination Regarding Application for Reconsideration applicable to the subject firm. The Notice will soon be published in the Federal Register.

During the initial investigation, the Department found that workers are engaged in the repair and overhaul of landing gear and hydraulics components and the predominant cause of worker separations is the shift of landing gear and hydraulics repair services to an affiliated facility in Mexico.

During the reconsideration investigation, it was found that bushings were manufactured at the Sterling, Virginia, facility during the relevant period. The investigation also revealed that the subject company is shifting half of the Sterling, Virginia, production to Europe and will shift the remaining half to Mexico in 2006. The investigation also revealed that the subject company will send the finished product from Europe and Mexico to its customers in the United States.

The investigation also revealed that all criteria have been met in regard to alternative trade adjustment assistance. A significant number or proportion of the worker group are age fifty years or over and workers possess skills that are not easily transferable. Competitive conditions within the industry are adverse.

Conclusion

After careful review of the additional facts obtained on reconsideration, I conclude that a shift of production to Europe and Mexico followed by increased imports of bushings contributed importantly to worker separations at the subject firm.

In accordance with the provisions of the Act, I make the following certification:

All workers of Messier Services, Inc., A Subsidiary of the Safran Group, Sterling, Virginia, who became totally or partially separated from employment on or after October 31, 2003, through two years from the date of this certification, are eligible to apply for adjustment assistance under Section 223 of the Trade Act of 1974, and are also eligible to apply for alternative trade adjustment assistance under Section 246 of the Trade Act of 1974.

Signed in Washington, DC, this 27th day of December 2005.
Elliott S. Kushner,
Certifying Officer, Division of Trade Adjustment Assistance.

[FR Doc. E6-119 Filed 1-9-06; 8:45 am]

BILLING CODE 4510-30-P